DEPARTMENT OF TRANSPORTATION

Federal Aviation Administration

Proposed Revision to FAA Order 8110.4C, Type Certification

AGENCY: Federal Aviation Administration (DOT).

ACTION: Notice of availability and request for public comment.

SUMMARY: This notice announces the availability of and requests public comments on the proposed revision “C” of the Federal Aviation Administration Order 8110.4. This proposed revision prescribes the procedures for evaluating and approving aircraft type design data and changes to previously approved type design data. In it, we prescribe the responsibilities and procedures we must follow to certify civil aircraft, aircraft engines, and propellers, as required by specific parts of Title 14 of the Code of Federal Regulations (14 CFR).

DATES: Comments must be received on or before September 20, 2004.

ADDRESSES: Send all comments on the proposed revised Order to: Federal Aviation Administration, Aircraft Certification Service, Aircraft Engineering Division, Room 815, 800 Independence Avenue, SW., Washington, DC 20591. ATTN: Madeleine Miguel, AIR-110. You may deliver comments to: Federal Aviation Administration, Room 815, 800 Independence Avenue, SW., Washington, DC, 20591, or electronically submit comments to the following Internet address: 9-AWA-81104-Comments@faa.gov. Include in the subject line of your message the title of the document, “Draft Order 8110.4C, Type Certification.”

FOR FURTHER INFORMATION CONTACT: Madeleine Miguell, Aerospace Engineer, Federal Aviation Administration, Aircraft Certification Service, Aircraft Engineering Division, Certification Procedures Branch, AIR-110, Room 815, 800 Independence Avenue, SW., Washington, DC 20591. Telephone (202) 267-3777, Fax (202) 267-5340, or e-mail at: maddie.miguel@faa.gov.

SUPPLEMENTARY INFORMATION:

Comments Invited

You are invited to comment on the draft order listed in this notice by sending such written data, views, or arguments to the above listed address. Please identify “Draft Order 8110.4C, Type Certification” as the subject of your comments. You may also examine comments received on the draft order before and after the comment closing date at the FAA Headquarters Building, Room 815, 800 Independence Avenue, SW., Washington, DC 20591, weekdays except Federal holidays, between 8:30 a.m. and 4:30 p.m. All communications received on or before the closing date will be considered by the Director of the Aircraft Certification Service before issuing the final revised Order.

Background

This revised draft order redefines the responsibilities and procedures for Federal Aviation Administration (FAA) aircraft certification personnel responsible for the certification process required by Title 14 of the Code of Federal Regulations for civil aircraft, aircraft engines, and propellers. In redefining those responsibilities and procedures, the FAA provides updated guidance to their personnel and industry on policy and procedures for the type certification of aircraft products. The order has been revised extensively to incorporate information from FAA Order 8110.44, Conformity Inspection Notification Process; FAA Order 8100.5, Aircraft Certification Directorate Procedures; FAA Order 8110.48, How to Establish the Certification Basis for Changed Aeronautical Products; among other directives. This proposed revision also incorporates a revised type certification process model that more accurately depicts the complexities of the process.

How To Obtain Copies

You can get an electronic copy via the Internet at http:www.faa.gov/certification/aircraft/DraftDoc/Comments.htm or by contacting the person named in the paragraph FOR FURTHER INFORMATION CONTACT.

Issued in Washington, DC, on August 19, 2004.
Susan J. M. Cabler,
Assistant Manager, Aircraft Engineering Division, Aircraft Certification Service.

[FR Doc. 04-19456 Filed 8-24-04; 8:45 am]

BILLING CODE 4910-13-M